DEPARTMENT OF HOMELAND SECURITY

Coast Guard

[Docket No. USCG-2015-0455]

Certificates of Alternative Compliance

AGENCY: Coast Guard, DHS.

ACTION: Notice.

SUMMARY: The Coast Guard announces that the Coast Guard District Prevention Divisions have issued certificates of alternative compliance to vessels of special construction or purpose that cannot fully comply with the light, shape, and sound signal provisions of the International Regulations for Preventing Collisions at Sea (72 COLREGS) and/or Inland Navigation Rules without interfering with their special function. This notice promotes the Coast Guard's maritime safety and stewardship missions.

FOR FURTHER INFORMATION CONTACT: For information about this document call or email LCDR Megan Cull, Coast Guard Navigation Standards Division; telephone (202) 372-1565, email megan.l.cull@uscg.mil. For information about viewing or submitting material to the docket, call Cheryl Collins, Program Manager, Docket Operations, telephone 202-366-9826, toll free 1-800-647-5527.

SUPPLEMENTARY INFORMATION:

Discussion

The special construction or purpose of some vessels makes them unable to comply with the light, shape, and sound signal provisions of the 72 COLREGS and/or Inland Navigation Rules. Under 72 COLREGS, statutory law and Coast Guard regulations, a vessel may instead meet alternative requirements and the vessel's owner, builder, operator, or agent may apply for a certificate of alternative compliance (COAC). The Chief of the Inspections and Investigations Branch in each Coast Guard District office determines whether the vessel for which the COAC is sought complies as closely as possible with the 72 COLREGS and/or Inland Navigation Rules, and decides whether to issue the COAC. Once issued, a COAC remains valid until information supplied in the application for the COAC, or the terms of the COAC becomes inapplicable to the vessel. Under the governing statute ¹ and regulation,² the Coast Guard must publish notice of each COAC.

¹ 33 U.S.C. 1605(c).

² 33 CFR 81.18.

The Coast Guard issued COACs to the following vessels between 2010 and 2014:

2010 | ALLISON CROSBY | Sidelights on the outboard edges of the superstructure 6′ 8″ from the centerline. Restricted in ability to maneuver/not under command lights may be installed 1 foot below each masthead light on either side of mast.
2010 | BEE HIVE | Forward masthead light 38′ 2¼″ above main deck; aft masthead light 18′ 10 9/16″ aft of forward masthead light; aft anchor light 25′ 1 5/16″ off center to starboard side, just forward of the stern; sidelights on the side of the pilothouse 12′ 4¼″ inboard of the greatest breadth.
2010 | BETTY PFANKUCH | Aft masthead light on the main mast above pilothouse, 20′ 5″ aft of the forward masthead light.
2010 | BETTY PFANKUCH | Duplicate COAC with addition of allowing two 360° restricted in ability to maneuver/not under command lights on aft mast to allow 360° visibility.
2010 | C-COURAGEOUS | Aft masthead light on the main mast above the pilothouse, 21′ 8¾″ aft of the forward masthead light.
2010 | DWIGHT S. RAMSAY | Aft masthead light on the main mast above the pilothouse, 20′ 5″ aft of the forward masthead light. Two 360° restricted in ability to maneuver/not under command lights on aft mast to allow 360° visibility.
2010 | FAST GIANT | Forward masthead light above the pilothouse 18.92′ above the hull, and its aft masthead light on the main mast above the pilothouse, 16.83′ aft and 14.76′ above the forward masthead light.
2010 | FAST TITAN | Forward masthead light above the pilothouse 18.92′ above the hull, and its aft masthead light on the main mast above the pilothouse, 16.83′ aft and 14.76′ above the forward masthead light.
2010 | JOHN W. JOHNSON | Aft masthead lights on the main mast atop of each pilothouse 115″ aft of each forward masthead light located atop the opposing pilothouse. Sidelights located on the side of the pilothouse.
2010 | KELLIE CHOUEST | Aft masthead light on main mast above pilothouse, 25′ 5 5/16″ aft of forward masthead light; sidelights 15′ 8″ inboard from greatest breadth; two sets of 360° restricted in ability to maneuver/not under command lights on the aft mast, one set on each side of the mast, 1′ 1″ from the centerline.
2010 | M/V ANNA G | Sidelights on the top of the pilothouse, 8′ 1″ inboard from the greatest breadth of the vessel.
2010 | M/V CHARLEVOIX | Reduce the intensity of the required sound signal to 85 decibel when leaving the dock/berth during normal operations.
2010 | M/V JODY MCMINN | Sidelights placed forward of the masthead light and located on the outermost edge of the pilothouse more than 10% inboard of the greatest breadth of the vessel.
2010 | M/V JOE GRIFFIN | Aft masthead light on the main mast above the pilothouse, 21′ 10″ aft of the forward masthead light.
2010 | M/V NICHOLAS P CALLAIS | Aft masthead light on the main mast above the pilothouse, 24′ 4″ aft of the forward masthead light.
2010 | M/V QUEEN BEE | Forward masthead light on top of the pilothouse 38′ 2¼″ above main deck and aft masthead light on main mast above pilothouse, 18′ 10 9/16″ aft of the forward masthead light, and its aft anchor light 25′ 1 5/16″ off center to the starboard side, just forward of the stern. In addition, the sidelights may be placed on the side of the pilothouse 12′ 4½″ inboard of the greatest breadth of the vessel.
2010 | M/V RAYMOND C. PERCOR, JR | Single Voyage COAC horizontal separation between forward and aft masthead light, 84′. Height of forward masthead light, 29′ 10″. Vertical separation of forward and aft masthead light, 6′ 11″. Sidelights placed 26′ 4″ above main deck. Vertical separation between sidelights and forward masthead light 3′ 6″. Sidelights placed on outside edge of pilothouse symmetric about the axis line of the masthead lights.
2010 | M/V RAYMOND C. PERCOR, JR | Fore and aft masthead lights 7′ 2½″ off centerline of the vessel. In addition, the vessels sidelights may be placed on the outside edge of the pilothouse symmetric about the axis line of the masthead lights.
2010 | M/V SOUTHERN STAR | Forward masthead light on top forward portion of the pilothouse, 19′ 8″ above the aft masthead light. The aft masthead light on the main mast above the pilothouse, 18′ aft of the forward masthead light.
2010 | MARIE ELISE | Aft masthead light on the main mast above the pilothouse, 19′ 11⅜″ aft of the forward masthead light. In addition, the sidelights may be placed on the outside edge of the pilothouse 7′ ¼″ inboard of the greatest breadth of the vessel.
2010 | MS. YVONNE | Forward masthead light on top of pilothouse 18′ 2″ above the hull; aft masthead light on the main mast above pilothouse, 16′ 9 15/16″ aft & 14′ 9 2/16″ above the forward masthead light; sidelights 5′ 7 1/16″ inboard from the greatest breadth.
2010 | OCEAN PROJECT | Aft masthead light on the main mast above the pilothouse, 23′ 4″ aft of the forward masthead light.
2010 | OUR LADY OF SALETTE | Aft masthead light on the main mast above the pilothouse, 24′ 4″ aft of the forward masthead light.
2010 | REAL MCCOY II | Masthead and running lights to be mounted on vessels portside to maximize allowable deck cargo area.
2010 | USCG SENTINEL CUTTER CLASS | Masthead lights 4.7 m aft of amid ships.
2010 | SEWARD JOHNSON | Aft anchor light position. Aft masthead light position and horizontal separation w/forward masthead light.
2011 | AARON S MCCALL | Forward masthead atop pilothouse and aft masthead above pilothouse, reducing horizontal separation of forward and aft masthead lights.
2011 | ACO DODIE LORRAINE | Aft masthead light on main mast above pilothouse aft of the forward masthead light.
2011 | ACO JESSICA MOORE | Aft masthead installed on mainmast above pilothouse reducing horizontal separation of forward and aft masthead lights.
2011 | AET EXCELLENCE | Aft masthead light on main mast above pilothouse aft of the forward masthead light. Sidelights may be located on bridge deck inboard of the greatest breadth.
2011 | AET INNOVATOR | Aft masthead light on main mast above pilothouse aft of the forward masthead light. Sidelights may be located on bridge deck inboard of the greatest breadth.
2011 | AET PARTNERSHIP | Aft masthead light on main mast above pilothouse aft of the forward masthead light. Sidelights may be located on bridge deck inboard of the greatest breadth.
2011 | AET RESPONSIBILITY | Aft masthead light on main mast above pilothouse aft of the forward masthead light. Sidelights may be located on bridge deck inboard of the greatest breadth.
2011 | ALYSSA CHOUEST | Aft masthead light on main mast atop pilothouse. All-around white light of restricted in ability to maneuver light has 13° obstruction and lower all-around red light has 16° obstruction.
2011 | CINDY BROWN TIDE | Aft masthead light on main mast above pilothouse, 25′ 9″ aft of forward masthead light.
2011 | C-PACER | Aft masthead on main mast above pilothouse, reducing horizontal separation of masthead lights. Sidelights placed inboard from the greatest breadth of the vessel. Not under command/restricted in ability to maneuver lights duplicated on main mast to ensure 360° visibility. Lower not under command red light installed less than required distance from white not under commands light.
2011 | DEEPSTIM BRASIL | Aft masthead light on pilothouse, 22′ 9 13/16″ aft of the forward masthead light.
2011 | HARVEY LEGEND (ex DRONE BEE) | Aft masthead light on the mainmast above pilothouse, 18′ 10 9/16″ aft of the forward masthead light. Sidelights located on side of pilothouse 12′ 4¼″ inboard of the greatest breadth.
2011 | FAST GOLIATH | Forward masthead atop pilothouse, 18.92′ above the hull, and aft masthead on mainmast above the pilothouse, 16.83′ aft and 14.76′ above the forward masthead light.
2011 | FAST MAMMOTH | Forward masthead light atop pilothouse 13′ 11″ above hull; aft masthead light on main mast atop pilothouse, 16′ 10″ aft and 14′ 9″ above forward masthead light.
2011 | HARVEY CHAMPION | Aft masthead light o main mast above pilothouse 21′ ¼″ aft of forward masthead light. Two sets of 360° restricted in ability to maneuver/not under command lights placed on aft mast, one set on each of the aft mast, 1′ 4″ from centerline to ensure 360° visibility, as allowed for in paragraph 9(b)(ii) of the COLREGS.
2011 | HARVEY SUPPORTER | Aft masthead light on main mast above pilothouse 21′ ¼″ aft of forward masthead light. Two sets of 360° restricted in ability to maneuver/not under command lights placed on aft mast, one set on each of the aft mast, 1′ 4″ from centerline.
2011 | HENRY B BIGELOW | Restricted in ability to maneuver/not under command lights on starboard side of mast w/36° arc of obstruction.
2011 | M/V HERCULES | Sidelights placed 9′ 6″ from the vessels greatest breadth mounted on the deckhouse hand rail.
2011 | M/V JAMES A. MORAN | Sidelights placed 13′ 3″ from vessels side, mounted to the deckhouse overhead.
2011 | M/V TRISTAN K | Sidelights installed 9′ 6″ from vessel's side mounted on the deckhouse handrail.
2011 | USCG Maritime Security Cutter WSML | Aft masthead light at forward edge of mast platform (11′ 5″ above baseline) setting the horizontal location of the aft masthead light 23′ 3 9/19″ aft of the forward masthead light.
2011 | MASON BEE | Aft masthead light on main mast above pilothouse, 18′ 10 9/16″ aft of the forward masthead light. Sidelights may be located on side of pilothouse, 12′ 4¼″ inboard of the greatest breadth.
2011 | MS NETTY | Aft masthead light on main mast above pilothouse, 16.79′ aft and 13.33′ above forward masthead light. Sidelights may be placed 4.81′ inboard of the greatest breadth.
2011 | MURDEN | Forward masthead light 14′ above hull on forward-most point of bow.
2011 | OCEAN PATRIOT | Aft masthead light on main mast above pilothouse, 32′ 7¾″ aft of forward masthead light. Sidelights may be located on side of 2nd deck 8′ 7¼″ inboard of the greatest breadth.
2011 | OSCAR DYSON | Restricted in ability to maneuver/not under command lights on starboard side of mast with 36° arc of obstruction.
2011 | OSG COURAGEOUS | Sidelights atop pilothouse (with the understanding that sidelights on companion barge will be used when connected as a composite unit).
2011 | OSG ENDURANCE | Sidelights atop pilothouse (with the understanding that sidelights on companion barge will be used when connected as a composite unit).
2011 | PISCES | Restricted in ability to maneuver/not under command lights on starboard side of mast with 36° arc of obstruction.
2011 | POWER 320 | Aft masthead light on main mast above pilothouse aft of forward masthead light; forward masthead light may be placed 128′ 4½″ from stem of vessel.
2011 | RJ COCO MCCALL | Forward masthead atop pilothouse and aft mast on mainmast above pilothouse, reducing horizontal separation of masthead lights.
2011 | SHIMADA | Restricted in ability to maneuver/not under command lights on starboard side of mast w/36° arc of obstruction.
2011 | ST JOSEPH THE WORKER | Aft masthead light above pilothouse 22′ 5″ aft of forward masthead light.
2011 | USNS HOWARD O LORENZEN | Aft masthead 58.58 m aft of forward masthead, less than the required horizontal separation required.
2012 | AIVIQ | Install the forward masthead light at bow of vessel beneath helicopter deck, aft masthead light 158′ 3″ aft of the forward masthead light and sidelights placed 38′ 5 9/16″ higher than the forward masthead light and 75′ 6″ above main deck.
2012 | BELL M. SHIMADA | Restricted in ability to maneuver/not under command lights placed on starboard side of mast w/a 36° arc of obstruction.
2012 | BERING | Aft masthead light on main mast atop the pilothouse 30′ aft of the forward masthead light.
2012 | BIG BLUE | Forward masthead light atop pilothouse 18′ 2″ above hull and aft masthead light on mainmast atop the pilothouse 16′ 15/16″ aft of the forward masthead light. Sidelights may be placed 5′ 11¾″ inboard from the greatest breadth of the vessel.
2012 | BLUEWATER CHIEF | Aft masthead light on the main mast above the pilothouse, 16.79′ aft and 13.33′ above the forward masthead light. Restricted in ability to maneuver/not under command lights may be placed aft of the secondary mast with a forward obstruction of 11°. Sidelights may be place 4.81′ inboard of the greatest breadth.
2012 | CADE CANDIES | Aft masthead light on the main mast above the pilothouse 35.645 m aft of the forward masthead light. Sidelights may be placed 12.87m above the main deck.
2012 | CAPTAIN DONALD LOWE SR | Sidelights just forward of the main mast atop the pilothouse 8″ forward of the masthead light. Sidelights may be placed 10.75′ inboard of the side of the hull.
2012 | DEEPSTIM BRASIL II | Aft masthead light on the main mast atop the pilothouse, 22′ 9 13/16″ aft of the forward masthead light. Additionally, there may be two sets of restricted in ability to maneuver/not under command lights on the starboard side of the mast, screened in such a way as to allow an unbroken 360° arc of visibility, as allowed for in Annex I, Paragraph 9(ii).
2012 | FAST CARRIER | Forward masthead light atop pilothouse 18′ 11″ above the hull and aft masthead light on the main mast atop the pilothouse, 16′ 10″ aft and 14′ 9″ above the forward masthead light.
2012 | FAST HAULER | Forward masthead light atop the pilothouse 18′ 11″ above the hull and aft masthead light on the mainmast atop the pilothouse 16′ 10″ aft and 14′ 9″ above the forward masthead light.
2012 | FAST RUNNER | Forward masthead light atop the pilothouse 18′ 11″ above the hull and aft masthead light on the mainmast atop the pilothouse 16′ 10″ aft and 14′ 9″ above the forward masthead light.
2012 | G. FREDRICK SEEMANN | Forward masthead light on top forward portion of the pilothouse 18′ 2″ above main deck, aft masthead light on the main mast above the pilothouse 16′ 9 5/16″ aft and 14′ 9 2/16″ above the forward masthead light. Sidelights may be placed on the pilothouse bulkhead 5′ 7 1/16″ inboard for the greatest breadth of the vessel.
2012 | GARY ROOK | Aft masthead light on the main mast atop the pilothouse, 20′ 11¾″ aft of the forward masthead light.
2012 | ISLA BONITA | Aft masthead on the mainmast atop the pilothouse, 27′ 11 11/16″ aft of forward masthead. Forward masthead light may be placed 13′ 11⅜″ above the hull.
2012 | JACK EDWARDS | Aft masthead light on main mast atop pilothouse, 20′ 11¾″ aft of the forward masthead light. Two sets of restricted in ability to maneuver/not under command lights on the starboard side of the mast, screened in such a way to allow an unbroken 360° arc of visibility, as allowed for in Annex I, paragraph 9(ii).
2012 | KEITH COWAN | Aft masthead light on main mast above the pilothouse, 25′ 10⅞″ aft of the forward masthead light.
2012 | KELLY ANN CANDIES | Aft masthead light 33.023 m aft of forward masthead light, forward masthead light 10.5 m above main deck, sidelights 2.2 m above the forward masthead light, maneuvering light 1.212 m below the aft masthead light.
2012 | LEAH G CALLAIS | Aft masthead light on main mast above pilothouse; less than required horizontal separation.
2012 | PAUL A CALLAIS | Aft masthead light on the main mast above the pilothouse, 24′ 4″ aft of the forward masthead light.
2012 | PETER W CALLAIS | Aft masthead light on the main mast above the pilothouse, 24′ 4″ aft of the forward masthead light.
2012 | ROBERT | Aft masthead light on main mast, reducing horizontal separation of mastheads to 18′ 8 9/16″. Forward masthead placed 107′ 10⅞″ from the bow with 7° of obstruction. Sidelights placed on superstructure inboard from port and starboard sides. Two sets of restricted in ability to maneuver/not under command lights to be placed on aft masthead for maximum visibility.
2012 | ROBERT ADAMS | Aft masthead light on the main mast atop the pilothouse, 20′ 11¾″ aft of the forward masthead light. Two sets of restricted in ability to maneuver/not under command lights on the starboard side of mast, screened in such a way to allow unbroken 360° arc of visibility, as allowed for in Annex I, paragraph 9(ii).
2012 | ROGER WHITE | Aft masthead light on the main mast atop the pilothouse, 20′ 11¾″ aft of the forward masthead light. Two sets of restricted in ability to maneuver/not under command lights on the starboard side of mast, screened in such a way to allow unbroken 360° arc of visibility, as allowed for in Annex I, paragraph 9(ii).
2012 | RUSSELL BOUZIGA | Aft masthead light on the main mast atop the pilothouse, 20′ 11¾″ aft of the forward masthead light. Two sets of restricted in ability to maneuver/not under command lights on the starboard side of mast, screened in such a way to allow unbroken 360° arc of visibility, as allowed for in Annex I, paragraph 9(ii).
2012 | SIKULIAQ | Replacement of 2011 Certificate of Alternative Compliance due to citation error.
2012 | SISUAQ (ex HARVEY HAULER) | Aft masthead light on main mast above the pilothouse, 21′ ¼″ aft of the forward masthead light. Two sets of restricted in ability to maneuver/not under command lights may be placed on the aft mast, one set on each, 1′ 4″ from the centerline of the vessel to ensure full 360° visibility, as allowed for in paragraph 9(b)(ii) of COLREGS.
2012 | WYATT CANDIES | Aft masthead light on the main mast atop the pilothouse, 108.97′ aft of the forward masthead light. The forward masthead light may be placed 34.65′ above the hull and the sidelights may be placed 41.91′ above the hull.
2013 | ALEX F MCCALL | Forward masthead light on top of the pilothouse, 26.3′ above the hull and its aft masthead light on the main mast above the pilothouse 11.1′ aft and 14.3′ above the forward masthead light.
2013 | ARABIAN | Aft masthead light on the main mast atop the pilothouse, 14.75′ above and 30′ aft of the forward masthead light.
2013 | BAYOU BEE 2013 | Aft masthead light on the main mast, 20′ 9 13/16″ aft of the forward masthead light. Two sets of restricted in ability to maneuver/not under command lights on both sides of the after mast, screened in such a way to allow an unbroken 360° arc of visibility, as allowed for in Annex I, Paragraph 9(ii).
2013 | BLUE ORCA | Aft masthead light on the main mast atop the pilothouse, 36′ 10⅞″ aft of the forward masthead light. Sidelights may be installed 47′ 11″ above baseline.
2013 | BRAZOS | Masthead light on the pilothouse, 91′ 5⅞″ aft of the stem of the vessel.
2013 | BUSY BEE | Aft masthead light on the main mast, 20′ 9 13/6″ aft of the forward masthead light. Two sets of restricted in ability to maneuver/not under command lights on both sides of the aft mast, screened in such a way as to allow an unbroken 360° arc of visibility, as allowed for in Annex I, Paragraph 9(ii).
2013 | CANYON RUNNER | Forward masthead atop the pilothouse 18′ 2″ above the hull, aft masthead light on the main mast atop the pilothouse 16′ 9 15/16″ aft of the forward masthead light.
2013 | CARIBBEAN | Aft masthead light on main mast atop pilothouse. 14.75′ above and 30′ aft of the forward masthead light.
2013 | CELTIC | Aft masthead light on the main mast atop the pilothouse, 30′ aft of the forward masthead light.
2013 | C-ENDURANCE | Aft masthead light on the main mast atop the pilothouse, 20′ 11¾″ aft of the forward masthead. Two sets restricted in ability to maneuver/not under command lights on the starboard side of mast, screened in such a way to allow an unbroken 360° arc of visibility, as allowed for in Annex I, paragraph 9(ii).
2013 | CHARLIE COMEAUX | Aft masthead light on main mast atop pilothouse, 20′ 11¾″ aft of the forward masthead light. Two sets of restricted in ability to maneuver/not under command lights on the starboard side of the mast, screened in such a way as to allow an unbroken 360° arc of visibility, as allowed for in Annex I, paragraph 9(ii).
2013 | CHLOE K | Sidelights 3.66 m inboard of the sides.
2013 | C-INSTALLER | Aft masthead light on the mainmast atop the pilothouse, 36′ 10⅞″ aft of the forward masthead light. Sidelights may be installed 47′ 11 5/16″ above the baseline.
2013 | CLARENCE TRICHE | Aft masthead light on the main mast atop the pilothouse 20′ 11¾″ aft of the forward masthead light. Second set of restricted in ability to maneuver/not under command lights 15″ forward of the first set.
2013 | CONNOR BORDELON | Aft masthead lights 16′ 8″ aft of the forward masthead light. Two sets of restricted in ability to maneuver/not under command lights on both sides of the aft mast, screened in such a way as to allow an unbroken 360° arc of visibility, as allowed for in Annex I, paragraph 9(ii).
2013 | FAST DELIVERER | Forward masthead light atop the pilothouse 18′ 11″ above the hull and aft masthead light on the mainmast atop the pilothouse 16′ 10″ aft and 14′ 9″ above the forward masthead light.
2013 | FAST SUPPORTER | Forward masthead light atop the pilothouse 18′ 11″ above the hull and aft masthead light on the mainmast atop the pilothouse 16′ 10″ aft and 14′ 9″ above the forward masthead light.
2013 | GRACIE CANDIES | Aft masthead light on the main mast atop the pilothouse, 6.6 m aft of the forward masthead light.
2013 | HARVEY DEEP-SEA | Aft masthead light on the mainmast above the pilothouse, 118′ aft of the forward masthead light. One set of 360° restricted in ability to maneuver/not under command lights carried in the required position would be obscured by greater than 6°. Two sets of 360° restricted in ability to maneuver/not under command lights may be placed in the aft mast, one side on each of the aft mast, 1′ 4″ from the centerline of the vessel to ensure full 360° visibility, as allowed for in Paragraph 9(ii) of COLREGS.
2013 | HERCULES | Aft masthead light on the main mast atop the pilothouse, 8.87 m aft of the forward masthead light. Two sets of restricted in ability to maneuver/not under command lights on both sides of the mast, screened in such a way as to allow an unbroken 360° arc of visibility, as allowed for in Annex I, Paragraph 9(ii).
2013 | HONEY BEE | Aft masthead light on main mast, 20′ 9 13/16″ aft of the forward masthead light. Two sets of restricted in ability to maneuver/not under command lights on both sides of the after mast, screened in such a way as to allow an unbroken 360° arc of visibility, as allowed for in Annex I, paragraph 9(ii).
2013 | HOS BEIGNET | Aft masthead light on main mast above pilothouse, 16′ 6¾″ above, and 22′ 8″ aft of the forward masthead light.
2013 | HOS BOUDIN | Aft masthead light on main mast above pilothouse, 16′ 6¾″ above, and 22′ 8″ aft of the forward masthead light.
2013 | HOS BOURRE | Aft masthead light on main mast above pilothouse, 16′ 6¾″ above, and 22′ 8″ aft of the forward masthead light.
2013 | HOS CAYENNE | Aft masthead light on main mast above pilothouse, 16′ 6¾″ above, and 22′ 8″ aft of the forward masthead light.
2013 | HOS CEDAR RIDGE | Aft masthead light on the main mast atop pilothouse, 26′ aft of the forward masthead light and the placement of the stern light on the aft bulkhead of the pilothouse.
2013 | HOS CHICORY | Aft masthead light on the main mast above the pilothouse, 16′ 6¾″ above, and 22′ 8″ aft of the forward masthead light. Sidelights 10′ 8″ from the side.
2013 | HOS CLEARVIEW | Aft masthead light on the main mast atop the pilothouse, 26′ aft of the forward masthead light and the placement of the stern light on the aft bulkhead of the pilothouse.
2013 | HOS RIVERBEND | Aft masthead light on the main mast above the pilothouse, 20′ 5″ aft of the forward masthead light.
2013 | JOHN JACOB | Aft masthead light on the mainmast atop the pilothouse, 13′ 4″ aft of the forward masthead light.
2013 | M/V CHARLEVOIX | Install two masthead lights for each direction of travel as near as practical to the vessels centerline and install two stern lights for each direction of travel at aft and forward end of deckhouse.
2013 | USCG Maritime Security Cutter WSML | Aft masthead light at forward edge of mast platform 24′ 3⅝″ aft of the forward masthead light, vice 23′ 3 9/16″ on original WMSL certificate of alternative compliance.
2014 | AGNES CANDIES | Aft masthead light on the main mast atop the pilothouse, 6.6 m aft of the forward masthead light.
2014 | ALEXANDER S MCCALL | Aft masthead light on the main mast atop the pilothouse, 12′ 4″ above and 8′ 4½″ aft of the forward masthead light.
2014 | AVERY ISLAND | Aft masthead atop the pilothouse, 32′ aft of the forward masthead light.
2014 | BRAD DARTEZ | Aft masthead light on the main mast atop the pilothouse, 32′ 8¾″ aft of the forward masthead light. Two sets of restricted in ability to maneuver/not under command lights on the mainmast atop the pilothouse, screened in such a way as to allow an unbroken 360° arc of visibility, as allowed for in Annex I, paragraph 9(ii).
2014 | CAPT ELLIOTT | Forward masthead light atop the pilothouse, 17′ 3″ above the hull and its aft masthead light on the main mast above the pilothouse, 14′ 3″ aft and 13′ 3″ above the forward masthead light.
2014 | CAROLINE F MCCALL | Forward masthead light atop the pilothouse, 15′ 11⅝″ above the hull and its aft masthead light on the main mast above the pilothouse, 9′ 9″ aft of the forward masthead light.
2014 | CLARENCE MOORE | Aft masthead light on the mainmast atop the pilothouse, 20′ 11¾″ aft of the forward masthead light. Two sets of restricted in ability to maneuver/not under command lights on the main mast atop the pilothouse, screened in such a way as to allow an unbroken 360° arc of visibility, as allowed for in Annex I, Paragraph 9(ii).
2014 | DEEP RUNNER | Forward masthead light 3′ above the pilothouse and 17′ 8¾″ forward of the aft masthead light.
2014 | DOVE | Forward masthead light located at forward end of helicopter deck 62′ above the main deck and aft mast light on the main mast atop the pilothouse, 15′ 6″ above and 118′ ⅛″ aft of the forward masthead light.
2014 | ELK | Aft masthead light on the main mast above pilothouse, 24′ 4″ aft of the forward masthead light.
2014 | FAST CHEETAH | Aft masthead light on the main mast atop the pilothouse, 16′ 10″ aft of the forward masthead light.
2014 | FAST SERVER | Aft masthead light on the main mast atop of the pilothouse, 16.83′ aft of the forward masthead light.
2014 | GRAND ISLE | Aft masthead light on the main mast atop the pilothouse, 32′ 8¾″ aft of the forward masthead light. Two sets of restricted in ability to maneuver/not under command lights on the main mast atop the pilothouse, screened in such a way as to allow an unbroken 360° arc of visibility, as allowed for in Annex I, Paragraph 9(ii).
2014 | GREAT EXPECTATIONS | Aft masthead light on the main mast atop the pilothouse, 22′ 1⅝″ aft of the forward masthead light. Two sets of restricted in ability to maneuver/not under command lights on the main mast atop the pilothouse, screened in such a way to allow an unbroken 360° arc of visibility, as allowed for in Annex I, paragraph 9(ii).
2014 | HARVEY GLADIATOR | Aft masthead light on the main mast above the pilothouse, 24′ 4″ aft of the forward masthead light.
2014 | HARVEY WORKER | Aft masthead light on main mast above the pilothouse, 24′ 4″ aft of the forward masthead light.
2014 | HORN ISLAND | Aft masthead light on the main mast atop the pilothouse, 32′ aft of the forward masthead light.
2014 | HOS BAYOU | Aft masthead light on main mast above pilothouse, 30′ 9″ above and 103′ aft of the forward masthead light.
2014 | HOS BRAIRWOOD | Aft masthead light on the main mast atop the pilothouse, 20′ 10¼″ aft of the forward masthead light.
2014 | IRISH | Aft masthead light on the pilothouse, 30′ aft of the forward masthead light.
2014 | JAVA | Aft masthead light on the pilothouse, 30′ aft of the forward masthead light.
2014 | JIM DAVIS | Aft masthead light on the mainmast atop the pilothouse, 28′ 1⅝″ aft of the forward masthead light.
2014 | LB JILL | Aft masthead light on the main mast atop the pilothouse, 18.71′ aft of the forward masthead light. Port sidelight 27′ from the side and starboard sidelight 43′ from the side.
2014 | MASON G | Aft masthead light on the main mast atop the pilothouse, 11′ 8½″ aft of the forward masthead light.
2014 | MR STEVEN | Forward masthead light on the top of the pilothouse, 18.6′ above the hull and its aft masthead light on the main mast above the pilothouse, 14.7′ aft of the forward masthead light.
2014 | MS CHARLOTTE | Aft masthead light on the main mast 19′ 4¾″ aft of the forward masthead light. Two sets of restricted in ability to maneuver/not under command lights on both sides of the after mast, screened in such a way as to allow an unbroken 360° arc of visibility, as allowed for in Annex I, Paragraph 9(ii).
2014 | MS JOLIE | Aft masthead light on main mast of the pilothouse, 16.83′ aft of the forward masthead light.
2014 | MS SARA JANE | Aft masthead light on the main mast 18′ 5⅛″ aft of the forward masthead light. Two sets of restricted in ability to maneuver/not under command lights on both sides of the after mast, screened in such a way as to allow an unbroken 360° arc of visibility, as allowed for in Annex I, paragraph 9(ii).
2014 | RAM NATION | Aft masthead light on the main mast above the pilothouse, 29′ 10″ above and 25′ 1″ aft of the forward masthead light.
2014 | REGULUS | Aft masthead light on the main mast atop the pilothouse, 23′ aft of the forward masthead light.
2014 | RENEE | Aft masthead light on the main mast 19′ 4¾″ aft of the forward masthead light. Two sets of restricted in ability to maneuver/not under command lights on both sides of the after mast, screened in such a way as to allow an unbroken 360° arc of visibility, as allowed for in Annex I, Paragraph 9(ii).
2014 | SARGASSO | Aft masthead light on the pilothouse, 30′ aft of the forward masthead light.
2014 | SEACOR BRAVE | Aft masthead light on the main mast above the pilothouse, 18′ 1″ above and 23′ 5″ aft of the forward masthead light.
2014 | SEACOR COURAGEOUS | Aft masthead light on the main mast above the pilothouse, 23′ 5″ aft of the forward masthead light.
2014 | SEACOR FEARLESS | Aft masthead light on the main mast above the pilothouse, 23′ 5″ aft of the forward masthead light.
2014 | SHIP ISLAND | Aft masthead light on the main mast atop the pilothouse, 32′ aft of the forward masthead light.
2014 | TIMBALIER ISLAND | Aft masthead light on main mast atop pilothouse 32′ 8¾″ aft of the forward masthead light. Two sets of restricted in ability to maneuver/not under command lights on the main mast atop the pilothouse, screened in such a way to allow an unbroken 360° arc of visibility, as allowed for in Annex I, Paragraph 9(ii).
2015 | ADRIATIC | Aft masthead light on the pilothouse, 30′ aft of the forward masthead light.
2015 | FAST LEOPARD | Aft masthead light on the main mast atop the pilothouse, 16.83′ aft of the forward masthead light.
2015 | HARVEY ENERGY | Aft masthead light on the main mast above the pilothouse, 26′ 9″ aft of the forward masthead light.
2015 | HOS WARLAND | Aft masthead light on the main mast above the pilothouse, 118′ 5½″ aft of the forward masthead light.
2015 | Maritime Security Cutter WSML | Aft masthead light on extension forward of uppermost mast platform 24′ 7⅛″ aft of the forward masthead light.
2015 | RAM COUNTRY | Aft masthead light on the main mast above the pilothouse, 25′ 1″ aft of the forward masthead light.
2015 | STIM STAR IV | Aft masthead light on the main mast atop the pilothouse, 26′ 8⅝″ aft of the forward masthead light.

This notice is issued under authority of 5 U.S.C. 552(a), 33 U.S.C. 1605(c), and 33 CFR 81.18.

Dated: May 22, 2015.
J.C. Burton,
Captain, U.S. Coast Guard, Director of Inspections and Compliance.

[FR Doc. 2015-13027 Filed 5-28-15; 8:45 am]

BILLING CODE 9110-04-P